DEPARTMENT OF HEALTH AND HUMAN SERVICES

Health Resources and Services Administration

Solicitation of Nominations for Membership To Serve on the Advisory Committee on Training in Primary Care Medicine and Dentistry

AGENCY: Health Resources and Services Administration (HRSA), Department of Health and Human Services (HHS).

ACTION: Request for nominations.

SUMMARY: HRSA is seeking nominations of qualified candidates for consideration for appointment as members of the Advisory Committee on Training in Primary Care Medicine and Dentistry (ACTPCMD or Committee).

DATES: Nominations for membership on the ACTPCMD must be received on or before the end of the fiscal year.

ADDRESSES: Nomination packages must be electronically submitted to the Designated Federal Official, Shane Rogers, via this email: BHWAdvisoryCouncil@hrsa.gov.

FOR FURTHER INFORMATION CONTACT: Shane Rogers, Designated Federal Official, Division of Medicine and Dentistry, Bureau of Health Workforce, email at SRogers@hrsa.gov or telephone at 301-443-5260.

SUPPLEMENTARY INFORMATION: The ACTPCMD provides advice and recommendations to the Secretary of Health and Human Services (Secretary); the Senate Committee on Health, Education, Labor and Pensions; and the House of Representatives' Committee on Energy and Commerce concerning the medicine and dentistry activities authorized under section 747 of the PHS Act, as it existed upon the enactment of Section 749 of the PHS Act in 1998. The ACTPCMD is responsible for preparing and submitting an annual report to the Secretary and Congress describing the activities of the Committee, including findings and recommendations made by the Committee. In addition, the ACTPCMD develops, publishes, and implements performance measures; develops and publishes guidelines for longitudinal evaluations; and recommends appropriation levels for programs under Part C of Title VII of the PHS Act. ACTPCMD currently focuses on the following targeted program areas and/or disciplines: Family medicine, general internal medicine, general pediatrics, physician assistants, general dentistry, pediatric dentistry, public health dentistry, and dental hygiene. The Committee meets at least twice a year. A copy of the current committee membership, charter, and reports can be obtained by accessing the ACTPCMD website at https://www.hrsa.gov/advisory-committees/primarycare-dentist/index.html.

Nominations: HRSA is requesting nominations for voting members to serve as Special Government Employees (SGEs). The Secretary appoints ACTPCMD members with the expertise needed to fulfill the duties of the Committee. The membership requirements are set forth at section 749 of the PHS Act (42 U.S.C. 293l). Nominees sought include, but are not limited to, representatives from the disciplines of allopathic medicine; osteopathic medicine; family medicine; general internal medicine; general pediatrics; physician assistants; general dentistry; pediatric dentistry; public health dentistry; and dental hygiene. Interested applicants may self-nominate or be nominated by another individual or organization.

Individuals selected for appointment to the Committee will be invited to serve for 3 years. Members of the ACTPCMD, as SGEs, receive compensation for performance of their duties on the Committee and reimbursement for per diem and travel expenses incurred for attending ACTPCMD meetings and conducting other business on behalf of the ACTPCMD.

The following information must be included in the package of materials submitted for each individual nominated for consideration:

(1) A letter of nomination that clearly states the name and affiliation of the nominee, the basis for the nomination (i.e., specific attributes that qualify the nominee for service in this capacity), and a statement that the nominee is willing to serve as a member of the Committee and appears to have no conflict of interest that would preclude membership.

(2) The nominator's name, address, daytime telephone number, and the home or work address, telephone number, and email address of the individual being nominated.

(3) A current copy of the nominee's curriculum vitae.

(4) A statement of interest from the nominee including any experience with Title VII medicine and dentistry training programs, expertise in the field, and personal desire in participating on a National Advisory Committee.

Nomination packages may be submitted directly by the individual being nominated or by the person/organization nominating the candidate.

HHS endeavors to ensure that the membership of the ACTPCMD is fairly balanced in terms of points of view represented and between the health professions, a broad representation of geographic areas, including balance between urban and rural members, gender, and ethnic and minority groups, as well as individuals with disabilities. At least 75 percent of the members of the Committee are health professionals. Appointments shall be made without discrimination on the basis of age, race, color, national origin, sex, disability, or religion.

Individuals who are selected to be considered for appointment will be required to provide detailed information regarding their financial holdings, consultancies, and research grants or contracts. Disclosure of this information is required in order for ethics officials to determine whether there is a potential conflict of interest between the SGE's public duties as a member of the ACTPCMD and their private interests, including an appearance of a loss of impartiality as defined by federal laws and regulations, and to identify any required remedial action needed to address the potential conflict.

Maria G. Button,
Director, Executive Secretariat.

[FR Doc. 2021-07533 Filed 4-12-21; 8:45 am]

BILLING CODE 4165-15-P